DEPARTMENT OF ENERGY

Office of International Regimes and Agreements; Proposed Subsequent Arrangement

AGENCY: Department of Energy.

ACTION: Subsequent arrangement.

SUMMARY: Pursuant to Article VIII.C of the Agreement for Cooperation Concerning Civil Uses of Atomic Energy, signed April 4, 1972, as amended, the American Institute in Taiwan and the Tapei Economic and Cultural Representative Office (TECRO) hereby jointly determine that the provisions in Article XI of the Agreement may be effectively applied with respect to the plan proposed by TECRO in February 2006 for the alteration in form or content of irradiated fuel elements at the hot laboratory of the Institute of Nuclear Energy Research, Lungtan, Taiwan. The facility is hereby found acceptable to both parties pursuant to Article VIII.C of the Agreement for the sole purpose of alteration in form or content of irradiated fuel elements for the period ending December 31, 2010.

In accordance with section 131 of the Atomic Energy Act of 1954, as amended, we have determined that this subsequent arrangement will not be inimical to the common defense and security.

This subsequent arrangement will take effect no sooner than fifteen days after the date of publication of this notice.

For the Department of Energy.
Richard S. Goorevich,
Director, Office of International Regimes and Agreements.

[FR Doc. E6-4391 Filed 3-24-06; 8:45 am]

BILLING CODE 6450-01-P